DEPARTMENT OF COMMERCE

National Oceanic and Atmospheric Administration

[I.D.100200B]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from November 8 - 10, 2000.

DATES: The meetings are scheduled as follows:

1. November 8, 2000, 1 p.m. - 5 p.m.

2. November 9, 2000, 8 a.m. - 5 p.m.

3. November 10, 2000, 8 a.m. - 1 p.m.

ADDRESSES: The meetings will be held at the Crowne Plaza at LaGuardia Airport, 104-04 Ditmars Boulevard, East Elmhurst, New York. Requests for special accommodations may be directed to MAFAC, Office of Operations, Management and Information, NMFS, 1315 East-West Highway, Silver Spring, Maryland 20910.

FOR FURTHER INFORMATION CONTACT: Elizabeth Lu Cano, Designated Federal Official; telephone: (301) 713-2252.

SUPPLEMENTARY INFORMATION: As required by section 10(a) (2) of the Federal Advisory Committee Act, 5 U.S.C. App. (1982), notice is hereby given of meetings of MAFAC and MAFAC Subcommittees. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, tribal, and other national interests.

Matters to Be Considered

November 8, 2000

Budget Review/Update, Marine Protected Areas Report, Strategy for Development of “Views Paper” for Transition Team

November 9, 2000

Preparation of “Views Paper”, Dialogue with Students of York College, Tour of Food and Drug Administration Laboratory in Queens

November 10, 2000

Steering Committee Report, Completion of “Views Paper”

Time will be set aside for public comment on agenda items.

Special Accommodations

These meetings are physically accessible to people with disabilities. Requests for sign language interpretation or other auxiliary aids should be directed to MAFAC (see ADDRESSES).

Dated: October 3, 2000.
William T. Hogarth,
Deputy Assistant Administrator, National Marine Fisheries Service.

FR Doc. 00-26360 Filed 10-12-00; 845 am]

BILLING CODE 3510-22-S